INTERNATIONAL TRADE COMMISSION

[Investigation No. 337-TA-945]

Certain Network Devices, Related Software and Components Thereof (II); Institution of Investigation

AGENCY: U.S. International Trade Commission.

ACTION: Notice.

SUMMARY: Notice is hereby given that a complaint was filed with the U.S. International Trade Commission on December 19, 2014, under section 337 of the Tariff Act of 1930, as amended, 19 U.S.C. 1337, on behalf of Cisco Systems, Inc. of San Jose, California. The complaint alleges violations of section 337 based upon the importation into the United States, the sale for importation, and the sale within the United States after importation of certain network devices, related software and components thereof by reason of infringement of certain claims of U.S. Patent No. 7,023,853 (“the '853 patent”); U.S. Patent No. 6,377,577 (“the '577 patent”); U.S. Patent No. 7,460,492 (“the '492 patent”); U.S. Patent No. 7,061,875 (“the '875 patent”); U.S. Patent No. 7,224,668 (“the '668 patent”); and U.S. Patent No. 8,051,211 (“the '211 patent”), and alleges that an industry in the United States exists as required by subsection (a)(2) of section 337.

The complainant requests that the Commission institute an investigation and, after the investigation, issue a limited exclusion order and a cease and desist order.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

SUPPLEMENTARY INFORMATION: Institution of investigation pursuant to 19 U.S.C. 1337.

Authority: The authority for institution of this investigation is contained in section 337 of the Tariff Act of 1930, as amended, and in section 210.10 of the Commission's Rules of Practice and Procedure, 19 CFR 210.10 (2014).

Scope of Investigation: Having considered the complaint, the U.S. International Trade Commission, on January 20, 2015, ordered that—

(1) Pursuant to subsection (b) of section 337 of the Tariff Act of 1930, as amended, an investigation be instituted to determine whether there is a violation of subsection (a)(1)(B) of section 337 in the importation into the United States, the sale for importation, or the sale within the United States after importation of certain network devices, related software and components thereof by reason of infringement of one or more of claims 46-52, 54, 56, and 59-63 of the '853 patent; claims 1, 2, 5, 7-10, 12-16, 18-22, 25, and 28-31 of the '577 patent; claims 1-4, 9-14, 17, and 18 of the '492 patent; claims 1-4, 10-13, and 15 of the '875 patent; claims 1-10, 12, 13, 15-28, 30, 31, 33-43, 45-49, 51-64, 66, 67, and 69-72 of the '668 patent; and claims 1, 2, 6-9, 12, 13, and 17-20 of the '211 patent, and whether an industry in the United States exists as required by subsection (a)(2) of section 337;

(2) For the purpose of the investigation so instituted, the following are hereby named as parties upon which this notice of investigation shall be served:

(a) The complainant is: Cisco Systems, Inc., 170 W Tasman Drive, San Jose, CA 95134.

(b) The respondent is the following entity alleged to be in violation of section 337, and is the party upon which the complaint is to be served: Arista Networks, Inc., 5453 Great America Parkway, Santa Clara, CA 95054.

(c) The Office of Unfair Import Investigations, U.S. International Trade Commission, 500 E Street SW., Suite 401, Washington, DC 20436; and

(3) For the investigation so instituted, the Chief Administrative Law Judge, U.S. International Trade Commission, shall designate the presiding Administrative Law Judge, and the Chief Administrative Law Judge is authorized to consider whether to consolidate Inv. No. 337-TA-944 with Inv. No. 337-TA-945, and to consolidate them if he deems it appropriate.

Responses to the complaint and the notice of investigation must be submitted by the named respondent in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of the respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: January 21, 2015.
By order of the Commission.
Lisa R. Barton,
Secretary to the Commission.

[FR Doc. 2015-01349 Filed 1-26-15; 8:45 am]

BILLING CODE 7020-02-P